DEPARTMENT OF THE INTERIOR

Bureau of Land Management

[18X LLWO600000.L18200000. XP0000]

Call for Nominations to the Utah Resource Advisory Council

AGENCY: Bureau of Land Management, Interior.

ACTION: Notice.

SUMMARY: The purpose of this notice is to request public nominations to the Bureau of Land Management's (BLM) Utah Resource Advisory Council (RAC).

DATES: All nominations must be received no later than January 7, 2021.

ADDRESSES: Nominations and completed applications should be sent to Lola Bird, BLM Utah State Office, 440 West 200 South, Suite 500, Salt Lake City, UT 84101, Attention: Utah RAC Nominations; or email lbird@blm.gov with the subject line “Utah RAC Nominations.” The Utah State Office will accept public nominations for 30 days from the date this notice is posted.

FOR FURTHER INFORMATION CONTACT: Lola Bird, BLM Utah State Office; phone: (801) 539-4033; email: lbird@blm.gov. Persons who use a telecommunications device for the deaf may call the Federal Relay Service (FRS) at 1-800-877-8339 to leave a message or question for the above individual. The FRS is available 24 hours a day, 7 days a week. Replies are provided during normal business hours.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784.

The RAC is seeking nominations in the following categories:

Category One—Holders of Federal grazing permits or leases within the area for which the RAC is organized; represent interests associated with transportation or rights-of-way; represent developed outdoor recreation, off-highway vehicle users, or commercial recreation activities, including, for example, commercial/charter or recreational fishing; represent the commercial timber industry; or represent energy and mineral development.

Category Two—Representatives of nationally or regionally recognized environmental organizations; dispersed recreational activities, including, for example, hunting and shooting sports; archaeological and historical interests; or nationally or regionally recognized wild horse and burro interest groups.

Category Three—Hold State, county, or local elected office; are employed by a State agency responsible for the management of natural resources, land, or water, including, for example, State/local fire associations; represent Indian tribes within or adjacent to the area for which the RAC is organized; are employed as academicians in natural resource management or the natural sciences; or represent the affected public at large, including, for example, sportsmen and sportswomen communities.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application, which can be obtained on the Utah RAC web page at: https://www.blm.gov/get-involved/resource-advisory-council/near-you/utah/RAC.

—A letter(s) of reference from represented interests or organizations; and

—Any other information that addresses the nominee's qualifications.

Authority: 43 CFR 1784.4-1.

Gregory Sheehan,
State Director.

[FR Doc. 2020-26873 Filed 12-7-20; 8:45 am]

BILLING CODE 4310-84-P